ENVIRONMENTAL PROTECTION AGENCY

[OPP-2003-00371; FRL-7335-1]

The Association of American Pesticide Control Officials State FIFRA Issues Research and Evaluation Group; Notice of Public Meeting

AGENCY: Environmental Protection Agency (EPA).

ACTION: Notice.

SUMMARY: The State Federal Insecticide, Fungicide, and Rodenticide Act (FIFRA), Issues Research and Evaluation Group (SFIREG) will hold a 2-day meeting, beginning on December 8, 2003 and ending December 9, 2003. This notice announces the location and times for the meeting, and sets forth the tentative agenda topics.

DATES: The meeting will be held on Monday, December 8, 2003 from 8:30 a.m. until 5 p.m. and December 9, 2003, from 8:30 a.m. until noon.

ADDRESSES: The meeting will be held at the Doubletree Hotel, 300 Army-Navy Drive, Arlington, VA.

FOR FURTHER INFORMATION CONTACT: Georgia McDuffie, Field and External Affairs Division (7506C), Office of Pesticide Programs, Environmental Protection Agency, 1200 Pennsylvania Ave., NW., Washington, DC 20460-0001; telephone number: (703) 605-0195; fax number: (703) 308-1850; e-mail address: mcduffie.georgia@epa.gov.

Philip H. Gray, SFIREG Executive Secretary, P.O. Box 1249, Hardwick, VT 05843-1249; telephone number (802) 472-6956; fax (802) 472-6957; e-mail address: aapco@vtlink.net.

SUPPLEMENTARY INFORMATION:

I. General Information

A. Does this Action Apply to Me?

You may be potentially affected by this action if you are interested in SFIREG's information exchange relationship with EPA regarding important issues related to human health, environmental exposure to pesticides, and insight into EPA's decision-making process. You are invited and encouraged to attend the meetings and participate as appropriate. If you have any question regarding the applicability of this action to a particular entity, consult the person listed under FOR FURTHER INFORMATION CONTACT.

This action is directed to the public in general, and may be of particular interest to those persons who are or may be required to conduct testing of chemical substances under the Federal Food, Drug, and Cosmetic Act (FFDCA), or the FIFRA. Since other entities may also be interested, the Agency has not attempted to describe all the specific entities that may be affected by this action. If you have any questions regarding the applicability of this action to a particular entity, consult the persons listed under FOR FURTHER INFORMATION CONTACT.

B. How Can I Get Copies of this Document and Other Related Information?

1. Docket. EPA has established an official public docket for this action under docket identification (ID) number OPP-2003-00371. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to view public comments, access the index listing of the contents of the official public docket, and to access those documents in the public docket that are available electronically. Although not all docket materials may be available electronically, you may still access any of the publicly available docket materials through the docket facility identified in Unit I.B.1. Once in the system, select “search,” then key in the appropriate docket ID number.

II. Tentative Agenda

This unit provides tentative agenda topics for the 2-day meeting.

1. Reports from SFIREG Regional Representatives and Working Committee Chairs.

2. Issues papers/action items.

3. Laboratory Directors Issue Paper.

4. EPA (Office of Water/Office of Pesticide Program) “Interim Statement Guidance/NPDES”/Public Comments/Updates.

5. Electronic labeling.

6. EPA/SLA Strategies/eCommerce enforcement compliance monitoring and enforcement.

7. Americans with Disabilities Act: Issues for State pesticide program issues.

8. Pesticide, container, and product label disposal issues briefing.

9. FIFRA “2(ee)” discussion.

10. Proposal for Pre-SFIREG cooperative agreement priority recommendations.

11. Endangered Species update/litigation, public comment, agency proposals.

12. National Pesticide Field Database/update.

13. U.S. Department Of Transportation hazard materiel transportation security requirements/briefing.

14. Additional topics as offered via ongoing Regional Pre-SFIREG meetings.

List of Subjects

Environmental protection, Pesticide and pests.

Dated: November 14, 2003.
Linda Vlier Moos,
Acting Associate Director, Field and External Affairs Division, Office of Pesticide Programs.

[FR Doc. 03-29006 Filed 11-19-03; 8:45 am]

BILLING CODE 6560-50-S